ENVIRONMENTAL PROTECTION AGENCY

[FRL- 9647-9]

Public Water System Supervision Program Approval for the State of Minnesota

AGENCY: Environmental Protection Agency (EPA).

ACTION: Notice of tentative approval.

SUMMARY: Notice is hereby given that the State of Minnesota is revising its approved public water system supervision program for four major rules. EPA has determined that these revisions are no less stringent than the corresponding Federal regulations. Therefore, EPA intends to approve these revisions. This approval action does not extend to public water systems in Indian Country, as the term is defined in 18 U.S.C. 1151. By approving these rules, EPA does not intend to affect the rights of federally recognized Indian Tribes in Minnesota, nor does it intend to limit existing rights of the State of Minnesota.

Any interested person may request a public hearing. A request for a public hearing must be submitted to the Regional Administrator at the address shown below by April 16, 2012. If a substantial request for a public hearing is made within the requested time frame, a public hearing will be held and a notice of such hearing will be given in the Federal Register and a newspaper of general circulation. Frivolous or insubstantial requests for a hearing may be denied by the Regional Administrator. If no timely and appropriate request for a hearing is received and the Regional Administrator does not elect to hold a hearing on her own motion, this determination shall become final and effective on April 16, 2012. Any request for a public hearing shall include the following information: The name, address, and telephone number of the individual, organization, or other entity requesting a hearing; a brief statement of the requesting person's interest in the Regional Administrator's determination and a brief statement of the information that the requesting person intends to submit at such hearing; and the signature of the individual making the request, or, if the request is made on behalf of an organization or other entity, the signature of a responsible official of the organization or other entity.

ADDRESSES: All documents relating to this determination are available for inspection at the following offices: Minnesota Department of Health, 625 North Robert Street, P.O. Box 64975, St. Paul, Minnesota, 55164-0975, and/or the U.S. Environmental Protection Agency, Region 5, Ground Water and Drinking Water Branch (WG-15J), 77 West Jackson Boulevard, Chicago, Illinois 60604, between the hours of 9 a.m. and 4 p.m., Monday through Friday.

FOR FURTHER INFORMATION CONTACT: Janet Kuefler, EPA Region 5, Ground Water and Drinking Water Branch, at the address given above, by telephone, at (312) 886-0123, or at kuefler.janet@epa.gov.

Authority: (Section 1413 of the Safe Drinking Water Act, as amended, 42 U.S.C. 300g-2 and 40 CFR part 142 of the National Primary Drinking Water Regulations).

Dated: March 7, 2012.
Susan Hedman,
Regional Administrator, Region 5.

[FR Doc. 2012-6281 Filed 3-14-12; 8:45 am]

BILLING CODE 6560-50-P